DEPARTMENT OF HOMELAND SECURITY

[Docket No. DHS-2023-0024]

Homeland Security Advisory Council

AGENCY: Office of Partnership and Engagement (OPE), Department of Homeland Security (DHS).

ACTION: Notice of open Federal advisory committee meeting.

SUMMARY: The Homeland Security Advisory Council (HSAC) will hold a public in-person meeting on Thursday, September 14, 2023. The meeting will be open to the public via teleconference.

DATES: The meeting will take place from 02 p.m. ET to 04:30 p.m. ET on Thursday, September 14, 2023. Please note that the meeting may end early if the Council has completed its business.

ADDRESSES: The HSAC meeting will be held at DHS St. Elizabeths Campus in Washington, DC Members of the public interested in participating may do so via teleconference by following the process outlined below. The public will be in listen-only mode except for the public comment portion of the meeting. Written comments must be submitted by 05 p.m. ET on September 13, 2023. Comments must be identified by Docket No. DHS-2023-0024 and may be submitted by one of the following methods:

• Federal eRulemaking Portal: http://www.regulations.gov. Follow the instructions for submitting comments.

• Email: HSAC@hq.dhs.gov. Include Docket No. DHS-2023-0024 in the subject line of the message.

• Mail: Rebecca Sternhell, Acting Executive Director of the Homeland Security Advisory Council, Office of Partnership and Engagement, Mailstop 0385, Department of Homeland Security, 2707 Martin Luther King Jr Ave SE, Washington, DC 20032.

Instructions: All submissions received must include the words “Department of Homeland Security” and “DHS-2023-0024”, the docket number for this action. Comments received will be posted without alteration at http://www.regulations.gov, including any personal information provided. You may wish to review the Privacy and Security Notice found via a link on the homepage of www.regulations.gov.

Docket: For access to the docket to read comments received by the Council, go to http://www.regulations.gov, search “DHS-2023-0024,” “Open Docket Folder” to view the comments.

FOR FURTHER INFORMATION CONTACT: Rebecca Sternhell, Acting Executive Director, Homeland Security Advisory Council at 202-891-2876 or HSAC@hq.dhs.gov.

SUPPLEMENTARY INFORMATION: Notice of this meeting is given pursuant to the Federal Advisory Committee Act (FACA), 5 U.S.C. 1009, which requires each FACA committee meeting to be open to the public unless the President, or the head of the agency to which the advisory committee reports, determines that a portion of the meeting may be closed to the public in accordance with 5 U.S.C. 552b(c).

The HSAC provides organizationally independent, strategic, timely, specific, actionable advice, and recommendations to the Secretary of Homeland Security on matters related to homeland security. The Council consists of senior executives from government, the private sector, academia, law enforcement, and non-governmental organizations. The open session will include: (1) Remarks from Senior DHS leaders, (2) Introduction and swearing in of a new member, (3) briefings, public comment, HSAC member deliberation, and voting on the the four draft reports from the DHS Workforce; Alternatives to Detention; Homeland Security Grant Program Review; and the Artificial Intelligence—Mission Focused subcommittees. The Council was tasked to create these subcommittees on March 27, 2023. The taskings can be found on the HSAC website at www.dhs.gov/homeland-security-advisory-council. The HSAC will also receive updates on previous recommendations it has submitted to the Secretary.

Members of the public will be in listen-only mode except during the public comment session. Members of the public may register to participate in this Council meeting via teleconference under the following procedures. Each individual must provide their full legal name and email address no later than 5:00 p.m. ET on Wednesday, September 13, 2023, to Rebecca Sternhell, Acting Executive Director of the Homeland Security Advisory Council via email to HSAC@hq.dhs.gov or via phone at 202-891-2876. Members of the public who have registered to participate will be provided the teleconference call-in number, meeting agenda, and the four draft subcommittee reports after the closing of the public registration period and prior to the start of the meeting. For more information about the HSAC, please visit our website: https://www.dhs.gov/homeland-security-advisory-council.

For information on services for individuals with disabilities, or to request special assistance, please email HSAC@hq.dhs.gov by 5:00 p.m. ET on Thursday, September 7, 2023 or call 202-891-2876. The HSAC is committed to ensuring all participants have equal access regardless of disability status. If you require a reasonable accommodation due to a disability to fully participate, please contact Rebecca Sternhell at 202-891-2876 or HSAC@hq.dhs.gov as soon as possible.

Dated: August 24, 2023.
Rebecca Sternhell,
Acting Executive Director, Homeland Security Advisory Council, Department of Homeland Security.

[FR Doc. 2023-18631 Filed 8-29-23; 8:45 am]

BILLING CODE 9112-FN-P